JUDICIAL CONFERENCE OF THE UNITED STATES

Advisory Committees on Appellate, Bankruptcy, Civil, Criminal, and Evidence Rules; Hearings of the Judicial Conference

AGENCY: Judicial Conference of the United States.

ACTION: Advisory Committees on Appellate, Bankruptcy, Civil, Criminal, and Evidence Rules; notice of proposed amendments and open hearings.

DATES: All written comments and suggestions with respect to the proposed amendments may be submitted on or after the opening of the period for public comment on August 15, 2025, but no later than February 16, 2026.

ADDRESSES: Written comments must be submitted electronically, following the instructions provided on the website. Comments will be available to the public.

Virtual public hearings are scheduled on the proposed amendments as follows:

• Appellate Rules on January 16, 2026, and February 6, 2026;

• Bankruptcy Rules on January 23, 2026, and January 30, 2026;

• Civil Rules on January 13, 2026, and January 27, 2026;

• Criminal Rules on January 22, 2026 and February 5, 2026; and

• Evidence Rules on January 15, 2026, and January 29, 2026.

Those wishing to testify must contact the Secretary of the Committee on Rules of Practice and Procedure by email at: RulesCommittee_Secretary@ao.uscourts.gov, at least 30 days before the hearing date.

FOR FURTHER INFORMATION CONTACT: Carolyn A. Dubay, Esq., Chief Counsel, Rules Committee Staff, Administrative Office of the U.S. Courts, Thurgood Marshall Federal Judiciary Building, One Columbus Circle NE, Suite 7-300, Washington, DC 20544, Phone (202) 502-1820, RulesCommittee_Secretary@ao.uscourts.gov.

SUPPLEMENTARY INFORMATION: The Advisory Committees on Appellate, Bankruptcy, Civil, Criminal, and Evidence Rules have proposed amendments to the following rules:

• Appellate Rule 15;

• Bankruptcy Rule 2002;

• Bankruptcy Official Forms B101 and 106C;

• Civil Rules 7.1, 26, 41, 45, and 81;

• Criminal Rule 17; and

• Evidence Rule 609 and new Rule 707.

The text of the proposals will be posted on August 15, 2025, on the Judiciary's website at: https://www.uscourts.gov/forms-rules/proposed-amendments-published-public-comment.

(Authority: 28 U.S.C. 2073.)

Dated: July 10, 2025.
Shelly L. Cox,
Management Analyst, Rules Committee Staff.

[FR Doc. 2025-13104 Filed 7-11-25; 8:45 am]

BILLING CODE 2210-55-P